DEPARTMENT OF DEFENSE

Department of the Army

[Docket ID: USA-2013-0015]

Privacy Act of 1974; System of Records

AGENCY: Department of the Army, DoD.

ACTION: Notice to alter a System of Records.

SUMMARY: The Department of the Army proposes to alter a system of records in its inventory of record systems subject to the Privacy Act of 1974 (5 U.S.C. 552a), as amended.

DATES: This proposed action will be effective on June 28, 2013 unless comments are received which result in a contrary determination. Comments will be accepted on or before June 27, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

SUPPLEMENTARY INFORMATION: The Department of Army notices for systems of records subject to the Privacy Act of 1974 (5 U.S.C. 552a), as amended, have been published in the Federal Register and are available from the address in FOR FURTHER INFORMATION CONTACT or from the Defense Privacy and Civil Liberties Web site at http://dpclo.defense.gov/privacy/SORNs/component/army/index.html.

The proposed system report, as required by 5 U.S.C. 552a(r) of the Privacy Act of 1974, as amended, was submitted on April 16, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 22, 2013.
Aaron Siegel,
Alternate OSD Federal Register Liaison Officer, Department of Defense.

A0190-47 DAPM-ACC

System name:

Army Corrections and Review Board Records (June 28, 2010, 75 FR 36644).

* * * * *

Changes:

System name:

Delete entry and replace with “Army Corrections System and Parole Board Records.”

System location:

Delete entry and replace with “Office of the Provost Marshal General, 2800 Army Pentagon, Washington, DC 20310-2800; Army Corrections Command, 150 Army Pentagon, Washington, DC 20310-0150; Army Corrections System Facilities, Navy and Marine Corps Brigs; and Army Clemency and Parole Board Office, 1901 South Bell Street, Arlington, VA 22202-4508.”

Categories of individuals covered by the system:

Delete entry and replace with “Any military member confined at a DoD correctional facility or approved local civilian jails as a result of courts-martial, or pending trial by courts-martial and under Army control, and those under community supervision once released from a DoD correctional facility and/or transferred to the Federal Bureau of Prisons (FBOP) under the current Memorandum of Agreement between Department of the Army and the FBOP; victim/witness', and informants.”

Categories of records in the system:

Delete entry and replace with “Military members full name, surname, Social Security Numbers (SSN), DoD-ID Number, registration number, charges, court martial, personal background history, former commander's report, no-contact order, funds account information health and comfort issuance, fingerprints, classification, progress reports, victim/witness' full name, address and telephone number, victim impact statements, co-conspirator affiliation, informants full name, address and telephone number, informants statement, legal guardianship, court martial correspondence, sex offender and DNA requirements and processing, classification, disciplinary and observation records, clothing and equipment, education and program certificates, clemency and parole actions, recommended actions and dispositions, parolee/supervisee release agreements, certificate of parole and similar relevant documents.”

Authority for maintenance of the system:

Delete entry and replace with “10 U.S.C. 3013, Secretary of the Army; 10 U.S.C. Chapter 48, Military Correctional Facilities, Section 951, Establishment; organization; administration; DODD 1030.1, Victim and Witness Assistance; DODI 1030.2, Victim and Witness Assistance Procedures; DODD 1325.04, Confinement of Military Prisoners and Administration of Military Correctional Programs and Facilities; DODI 1325.7, Administration of Military Correctional Facilities and Clemency and Parole Authority; AR 15-130, Army Clemency and Parole Board; Army Regulation 190-47, The Army Corrections System; and E.O. 9397 (SSN), as amended.”

Purpose(s):

Delete entry and replace with “The system is used for management of correctional facility population, demographic studies, status of discipline and responsiveness of personnel procedures, as well as confinement utilization factors such as population turnover or relapsing into crime. These records provide relevant information required for proper clemency and parole decisions that the Service Clemency and Parole Board makes for the Service Secretaries.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

To Federal, state and local confinement/correctional agencies for use in the administration of correctional programs including custody classification, employment, training and educational assignments, treatment programs, clemency, restoration to duty or parole actions, verification of offender's criminal records, employment records, and social histories.

To state and local authorities for purposes of providing (1) notification that individuals, who have been convicted of a specified sex offense or an offense against a victim who is a minor, will be residing in the state upon release from military confinement, (2) information about the individual for inclusion in a state operated sex offender registry and (3) DNA, or deoxyribonucleic acid policy on collecting samples from military prisoners.

To the Bureau of Prisons for the purpose of providing notification that the military transferee has been convicted of a sexually violent offense or an offense against a victim who is a minor.

To victims and witnesses of a crime(s) for the purpose of notifying them of date of parole or clemency hearing and other release related activities.

The DoD Blanket Routine Uses set forth at the beginning of the Army's compilation of systems of records notices may also apply to this system.”

* * * * *

Retention and disposal:

Delete entry and replace with “Automated records for prisoners in the U.S. Army Corrections System facilities are retained for 2 years following expiration of sentence/completion of parole/maximum release date, following which they are retired to the National Personnel Records Center (NPRC) for 50 years before destruction by shredding or burning. Records will be downloaded to paper copies before retiring to NPRC.

Note: Transfer of a prisoner from one DoD correctional facility or Federal Bureau of Prisons' Facility to another is not construed as release from confinement. When a prisoner is transferred to another facility, his/her file is electronically transferred to the gaining facility.

Information on tape/disc is erased after 3 years.

Army Clemency Board case files are returned on completion of Board action to the DoD Correctional Facility, where they are retained for 2 years following expiration of sentence/completion of parole/maximum release date, following which they are retired to the NPRC and maintained for 50 years before being destroyed by shredding or burning.”

System manager(s) and address:

Delete entry and replace with “Office of the Provost Marshal General, 2800 Army Pentagon, Washington, DC 20310-2800; Army Corrections Command, 150 Army Pentagon, Washington, DC 20310-0150.”

Notification procedure:

Delete entry and replace with “Individuals seeking to determine whether information about themselves is contained in this system should address written inquiries to the commander of the correctional facility where confined.

For verification purposes, individual should provide their full name, SSN and/or DoD-ID Number, dates of confinement, any details which may assist in locating records, and their signature.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system should address written inquiries to the commander of the correctional facility.

For verification purposes, individual should provide their full name, SSN and/or DoD-ID Number, dates of confinement, any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

[FR Doc. 2013-12569 Filed 5-24-13; 8:45 am]

BILLING CODE 5001-06-P